DEPARTMENT OF THE INTERIOR

Geological Survey

[GX13C00BM6P2BB]

Agency Information Collection Activities: Comment Request

AGENCY: U.S. Geological Survey (USGS), Interior.

ACTION: Notice of an extension of an information collection (1028-0082).

SUMMARY: To comply with the Paperwork Reduction Act of 1995 (PRA), the U.S. Geological Survey (USGS) is inviting comments on an information collection request (ICR) that we have sent to the Office of Management and Budget (OMB) for review and approval. The ICR concerns the paperwork requirements for the “Bird Banding and Recovery Reports.” As required by the Paperwork Reduction Act (PRA) of 1995, and as part of our continuing efforts to reduce paperwork and respondent burden, we invite the general public and other Federal agencies to take this opportunity to comment on this ICR. This Information Collection is scheduled to expire on November 30, 2012.

DATES: Submit written comments by December 28, 2012.

ADDRESSES: Please submit comments on this information collection directly to the Office of Management and Budget (OMB), Office of Information and Regulatory Affairs, Attention: Desk Officer for the Department of the Interior via email: (OIRA_SUBMISSION@omb.eop.gov); or by fax (202) 395-5806; and identify your submission with #1028-0082. Please also submit a copy of your comments to Information Collection Clearance Officer, U.S. Geological Survey, 807 National Center, Reston, VA 20192 (mail); or smbaloch@usgs.gov (email). Please reference Information Collection 1028-0082.

FOR FURTHER INFORMATION CONTACT: To request additional information about this ICR, contact Bruce Peterjohn, (301) 497-5646 (phone) or bpeterjohn@usgs.gov (email). You may also view additional information about this activity at: www.reginfo.gov.

SUPPLEMENTARY INFORMATION: Title: Bird Banding and Recovery Reports.

OMB Control Number: 1028-0082.

Type of Request: Extension of a currently approved collection.

Abstract: The USGS Bird Banding Laboratory is responsible for monitoring the trapping and marking of wild migratory birds by persons holding Federal permits. The Bird Banding laboratory collects information using three forms: (1) The Application for Federal Bird Marking and Salvage Permit, (2) The Bird Banding Permit Renewal Form, (3) The Bird Banding Recovery Report, and one electronic database, Bandit.

We will protect information from respondents considered proprietary under the Freedom of Information Act (5 U.S.C. 552) and its implementing regulations (43 CFR Part 2), and under regulations at 30 CFR 250.197, “Data and information to be made available to the public or for limited inspection.” No questions of a “sensitive” nature are asked.

Affected Public: General Public.

Respondent Obligation: The recovery report is voluntary. Reporting of banding information is required using the BANDIT software. The Permit application and renewal form are required to obtain or retain benefits.

Frequency of Collection: On occasion.

Estimated Number and Description of Respondents: 94,700 individuals encountering a banded bird and volunteer bird banders.

Annual Burden Hours: 21,068 hours (50 hours for permit applications, 19 hours for renewal applications, 2,999 hours for banding recovery reports, and 18,000 hours for the Bandit software).

Estimated Annual Reporting and Recordkeeping “Hour” Burden: We estimate the time to complete each form is: 30 minutes for the Permit Application form, 2 minutes for Bird Banding Permit renewal form, 2 minutes for Recovery Report form, and 4.5 hours for the Bandit software.

Estimated Reporting and Recordkeeping “Non-Hour Cost” Burden: We have not identified any “non-hour cost” burdens associated with this collection of information.

Public Disclosure Statement: The PRA (44 U.S.C. 3501, et seq.) provides that an agency may not conduct or sponsor, and you are not required to respond to, a collection of information unless it displays a currently valid OMB control number.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: November 20, 2012.
Bruce Peterjohn,
Chief, Bird Banding Lab, USGS.

[FR Doc. 2012-28812 Filed 11-27-12; 8:45 am]

BILLING CODE 4311-AM-P